FEDERAL RESERVE SYSTEM

Agency Information Collection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Michelle Shore—Division of Research and Statistics, Board of Governors of the Federal Reserve System, Washington, DC 20551 (202-452-3829)

OMB Desk Officer—Shagufta Ahmed—Office of Information and Regulatory Affairs, Office of Management and Budget, New Executive Office Building, Room 10235, Washington, DC 20503.

Final Approval Under OMB Delegated Authority of the Revision, Without Extension, of the Following Reports:

1. Report Title: Financial Statements of Nonbank Subsidiaries of U.S. Bank Holding Companies.

Agency Form Number: FR Y-11.

OMB Control Number: 7100-0244.

Frequency: Quarterly and annually.

Reporters: Bank holding companies (BHCs).

Annual Reporting Hours: FR Y-11 (quarterly), 11,424 hours; FR Y-11 (annually), 1,489 hours.

Estimated Average Hours per Response: FR Y-11 (quarterly), 6.80 hours; FR Y-11 (annual), 6.80 hours.

Number of Respondents: FR Y-11 (quarterly), 420; FR Y-11 (annually), 219.

General Description of Report: This information collection is mandatory (12 U.S.C. 1844(c)). Confidential treatment is not routinely given to the data in these reports. However, confidential treatment for the reporting information, in whole or in part, can be requested in accordance with the instructions to the form, pursuant to sections (b)(4), (b)(6) and (b)(8) of the Freedom of Information Act [5 U.S.C. 552(b)(4), (b)(6) and (b)(8)].

Abstract: The FR Y-11 reporting forms collect financial information for individual non-functionally regulated U.S. nonbank subsidiaries of domestic BHCs. BHCs file the FR Y-11 on a quarterly or annual basis according to filing criteria. The FR Y-11 data are used with other BHC data to assess the condition of BHCs that are heavily engaged in nonbanking activities and to monitor the volume, nature, and condition of their nonbanking operations.

Current Actions: On November 13, 2008, the Federal Reserve published a notice in the Federal Register (73 FR 67159) requesting public comment for 60 days on the revision, without extension, of the FR Y-11. The comment period for this notice expired on January 12, 2009. The Federal Reserve did not receive any comments; the revisions will be implemented as proposed.

2. Report Title: Financial Statements of Foreign Subsidiaries of U.S. Banking Organizations.

Agency Form Number: FR 2314.

OMB Control Number: 7100-0073.

Frequency: Quarterly and annually.

Reporters: Foreign subsidiaries of U.S. state member banks (SMBs), bank holding companies (BHCs), and Edge or agreement corporations.

Annual Reporting Hours: FR 2314 (quarterly), 5,755 hours; FR 2314 (annually), 1,109 hours.

Estimated Average Hours per Response: FR 2314 (quarterly), 6.60 hours; FR 2314 (annual), 6.60 hours.

Number of Respondents: FR 2314 (quarterly), 218; FR 2314 (annually), 168.

General Description of Report: This information collection is mandatory (12 U.S.C. 324, 602, 625, and 1844(c)). Confidential treatment is not routinely given to the data in these reports. However, confidential treatment for the reporting information, in whole or in part, can be requested in accordance with the instructions to the form, pursuant to sections (b)(4), (b)(6) and (b)(8) of the Freedom of Information Act [5 U.S.C. 552(b)(4), (b)(6) and (b)(8)].

Abstract: The FR 2314 reports collect financial information for non-functionally regulated direct or indirect foreign subsidiaries of U.S. SMBs, Edge and agreement corporations, and BHCs. Parent organizations (SMBs, Edge and agreement corporations, or BHCs) file the FR 2314 on a quarterly or annual basis according to filing criteria. The FR 2314 data are used to identify current and potential problems at the foreign subsidiaries of U.S. parent companies, to monitor the activities of U.S. banking organizations in specific countries, and to develop a better understanding of activities within the industry, in general, and of individual institutions, in particular.

Current Actions: On November 13, 2008, the Federal Reserve published a notice in the Federal Register (73 FR 67159) requesting public comment for 60 days on the revision, without extension, of the FR 2314. The comment period for this notice expired on January 12, 2009. The Federal Reserve did not receive any comments; the revisions will be implemented as proposed.

3. Report Title: Financial Statements of U.S. Nonbank Subsidiaries Held by Foreign Banking Organizations.

Agency Form Number: FR Y-7N.

OMB Control Number: 7100-0125.

Frequency: Quarterly and annually.

Reporters: Foreign banking organizations (FBOs).

Annual Reporting Hours: FR Y-7N (quarterly), 5,277 hours; FR Y-7N (annually), 1,149 hours.

Estimated Average Hours per Response: FR Y-7N (quarterly), 6.8 hours; FR Y-7N (annual), 6.8 hours.

Number of Respondents: FR Y-7N (quarterly), 194; FR Y-7N (annual), 169.

General Description of Report: This information collection is mandatory (12 U.S.C. 1844(c), 3106(c), and 3108). Confidential treatment is not routinely given to the data in these reports. However, confidential treatment for information, in whole or in part, on any of the reporting forms can be requested in accordance with the instructions to the form, pursuant to sections (b)(4) and (b)(6) of the Freedom of Information Act [5 U.S.C. 522(b)(4) and (b)(6)].

Abstract: The FR Y-7N collects financial information for non-functionally regulated U.S. nonbank subsidiaries held by FBOs other than through a U.S. bank holding company, U.S. financial holding company, or U.S. bank. FBOs file the FR Y-7N on a quarterly or annual basis based on size thresholds.

Current Actions: On November 13, 2008, the Federal Reserve published a notice in the Federal Register (73 FR 67159) requesting public comment for 60 days on the revision, without extension, of the FR Y-7N. The comment period for this notice expired on January 12, 2009. The Federal Reserve did not receive any comments; the revisions will be implemented as proposed.

4. Report Title: Consolidated Report of Condition and Income for Edge and Agreement Corporations.

Agency Form Number: FR 2886b.

OMB Control Number: 7100-0086.

Frequency: Quarterly.

Reporters: Edge and agreement corporations.

Annual Reporting Hours: 2,288 hours

Estimated Average Hours per Response: 15.15 hours banking corporations, 9.60 investment corporations.

Number of Respondents: 15 banking corporations, 50 investment corporations.

General Description of Report: This information collection is mandatory (12 U.S.C. 602 and 625). Schedules RC-M (except data item 3) and RC-V are held as confidential pursuant to section (b)(4) of the Freedom of Information Act [5 U.S.C. 552 (b)(4)].

Abstract: The mandatory FR 2886b comprises a balance sheet, income statement, 2 schedules reconciling changes in capital and reserve accounts, and 10 supporting schedules, and it parallels the Call Report that commercial banks file. The Federal Reserve uses the data collected on the FR 2886b to supervise Edge corporations, identify present and potential problems, and monitor and develop a better understanding of activities within the industry.

Current Actions: On November 13, 2008, the Federal Reserve published a notice in the Federal Register (73 FR 67159) requesting public comment for 60 days on the revision, without extension, of the FR 2886b. The comment period for this notice expired on January 12, 2009. The Federal Reserve did not receive any comments; the revisions will be implemented as proposed.

Proposal to Approve Under OMB Delegated Authority the Extension for Three Years, With Revision, of the Following Report:

1. Report Title: Bank Holding Company Report of Insured Depository Institutions' Section 23A Transactions with Affiliates.

Agency Form Number: FR Y-8.

OMB Control Number: 7100-0126.

Frequency: Quarterly.

Reporters: Top-tier bank holding companies (BHCs), including financial holding companies, for all insured depository institutions that are owned by the BHC and by foreign banking organizations that directly own a U.S. subsidiary bank.

Annual Reporting Hours: 52,010 hours.

Estimated Average Hours per Response: Institutions with covered transactions, 7.8 hours; Institutions without covered transactions, 1.0 hour.

Number of Respondents: Institutions with covered transactions, 1,013; Institutions without covered transactions, 5,101.

General Description of Report: This information collection is mandatory (section 5(c) of the Bank Holding Company Act (12 U.S.C. 1844(c)) and section 225.5(b) of Regulation Y (12 CFR 225.5(b)) and is given confidential treatment (5 U.S.C. 552(b)(4)).

Abstract: This reporting form collects information on transactions between an insured depository institution and its affiliates that are subject to section 23A of the Federal Reserve Act. The primary purpose of the data is to enhance the Federal Reserve's ability to monitor bank exposures to affiliates and to ensure banks' compliance with section 23A of the Federal Reserve Act. Section 23A of the Federal Reserve Act is one of the most important statutes on limiting exposures to individual institutions and protecting against the expansion of the Federal safety net.

Current Actions: On November 13, 2008, the Federal Reserve published a notice in the Federal Register (73 FR 67159) requesting public comment for 60 days on the extension, with revision of the FR Y-8. The comment period for this notice expired on January 12, 2009. The Federal Reserve did not receive any comments; the revisions will be implemented as proposed.

Board of Governors of the Federal Reserve System, March 9, 2009.
Jennifer J. Johnson,
Secretary of the Board.

[FR Doc. E9-5343 Filed 3-11-09; 8:45 am]

BILLING CODE 6210-01-P